DEPARTMENT OF HEALTH AND HUMAN SERVICES

Partners Invited To Participate in the National HIV Testing Day Initiative

AGENCY: Office of the Secretary, Department of Health and Human Services.

ACTION: Notice.

SUMMARY: The Department of Health and Human Services (HHS) seeks to partner with other public and private sector organizations to support a Federal initiative to promote greater testing for HIV. This initiative will support and promote National HIV Testing Day, which will be held on June 27, 2004. HHS, in coordination with the National Association of People With AIDS, is planning events in various cities across the United States to support National HIV Testing Day. The goal of these events is to raise awareness about HIV/AIDS in at-risk communities, promote early detection and assist HIV-positive individuals to obtain treatment. The National HIV Testing Day Partnership initiative is not a grant or contract award program, and each partner will be responsible for supporting its own activities. Working together, it is intended that these partnerships will provide innovative opportunities to promote greater testing for HIV and to help HIV-positive individuals to obtain treatment.

DATES: Comments expressing or affirming an interest in activities of the National HIV Testing Day Partnership will be most useful if received as soon as possible or by June 10.

ADDRESSES: Expressions of interest, comments and questions may be sent to the following e-mail address, MGomez@OSOPHS.DHHS.GOV or by FAX to: Miguel Gomez, Office of Public Health and Science, the Office of the Secretary, U.S. Department of Health and Human Services, at 202-690-7560.

Representatives of interested organizations also may call the following information line: 202-690-5560. Callers will be directed to appropriate agency officials for further discussions.

SUPPLEMENTARY INFORMATION: HHS is the United States government's principal agency for promoting and protecting the health of all Americans. HHS manages many programs, covering a broad spectrum of health promotion and disease prevention services and activities. Leaders in the business community, State and local government officials, tribes and tribal entities and charitable, faith-based, and community organizations have expressed interest in partnering with the Department to promote healthy choices and behaviors. HHS welcomes this interest. With this notice, HHS outlines opportunities for these and other entities to partner with HHS in order to assist in developing activities that will promote and support the June 27 National HIV Testing Day. These activities will be carried out consistent with HHS's broad statutory authorities found in Title XVII of the Public Health Service (PHS) Act and other HHS program statutes. In general, section 1704 of the PHS Act, among other authorized activities, provides authority for the Secretary to conduct activities to make information respecting health or health promotion, preventative health services, and health education available to the public, and to encourage others to support such activities.

Presently, 40 million people are living with HIV/AIDS worldwide, with approximately 950,000 cases in the U.S. The Centers for Disease Control and Prevention (CDC) is concerned that the estimated one-quarter (180,00-280,000) of the persons living with HIV who are unaware of their status are not receiving life-saving treatment and may unknowingly transmit HIV to others. CDC estimates approximately 40,000 new individuals become infected with HIV cases annually. Data suggest that 40 percent of new infections are transmitted by those who do not yet know they are infected. Approximately 20 million HIV tests are performed annually at all testing sites, including more than two million tests administered at publicly-funded HIV counseling and testing sites.

In April of 2003, the CDC announced a new initiative, Advancing HIV Prevention (AHP): New Strategies for a Changing Epidemic, focusing on reducing barriers to diagnosis of HIV infection and access, to and use of, quality medical care, treatment, and ongoing prevention services for persons with HIV. AHP maintains target services to high-risk groups.

The National HIV Testing Day Partnership initiative will encourage all U.S. communities to participate in Testing Day events and is likely to include events in a number of cities. Cities under consideration are Atlanta, GA; Ft. Lauderdale, FL; Kansas City, MO; New York, NY; Orlando, FL; San Antonio, TX; and Los Angeles, CA. HHS officials are considering participating in a wide range of local events that will support HIV testing in these six cities. HHS will encourage its grantees and others to support Testing Day events around the U.S.

In addition, HHS would like to support and promote this important Testing Day with a more widespread and comprehensive public education campaign. This initiative can only be successful through a public/private partnership to support such a large-scale nationwide event to support and promote the National HIV National Testing Day. Consequently, the involvement of both public and private organizations is necessary. For efforts of this magnitude, the Department periodically invites outside organizations to join in carrying out activities of mutual interest to achieve shared objectives. These partnerships are voluntary. The parties work together to carry out their respective, consistent missions for the common good.

In order to implement activities that will support and promote the National HIV Testing Day, HHS is interested in establishing partnerships with private corporations and other entities, including charitable, faith-based, and community organizations, as well as with State and local governments, that can help extend the initiative's reach. In accordance with each entity's particular strengths and abilities, partnerships will be established. Note that each partner must participate substantively in the initiative and be responsible for providing the resources necessary to carry out its specified activities of mutual interest.

As partners with HHS, both public and private sector organizations can bring to this initiative their respective ideas and expertise, administrative capabilities, and production and material resources, that are consistent with the goals of the National HIV Testing Day Partnership initiative. For example:

(a) Share in the distribution of educational health information to the public regarding the promotion of HIV prevention activities; and the availability of HIV counseling and testing; and

(b) Participate in the development of a public education campaign to highlight June 27 as the National HIV Testing Day and to promote the importance of HIV testing by using local or national media participation.

Partnership agreements will make clear that there will be no Federal endorsement of the products or services of particular companies and organizations. HHS will have a right to review the use of Department logos and statements related to partnership activities on such materials and products to ensure that they are suitable for the initiative and that government neutrality with respect to such products and services is maintained. National HIV Testing Day is a registered trademark of the National Association of People with AIDS.

Evaluation Criteria

After engaging in exploratory discussions of potential partnerships and partnership activities with respondents, HHS will use the following considerations, as appropriate and relevant, to determine whether HHS will engage in partnership activities with particular entities and the scope of those activities.

1. Are the activities proposed by the offering entity likely to provide a substantial public health benefit, consistent with HHS goals and its initiative to promote greater testing for HIV, spotlighting the June 27 National HIV Testing Day?

2. Does the proposed partnership's potential for public health benefit outweigh any potential negative impact on the agency and its ability to accomplish its missions? What adjustments if any, would make the proposal acceptable?

3. Is there an identifiable and appropriate role for HHS and the potential partner?

4. Does the outside entity have the expertise and capacity to carry out its proposed activities?

5. Has the outside entity demonstrated a willingness to work collaboratively with other public and private sector organizations to achieve national awareness of the importance of HIV testing?

Given the National HIV Testing Day Partnership initiative's objectives, entities which have similar goals and consistent interests, appropriate expertise and resources, and would like to pursue activities that will support and promote the National HIV Testing Day within their own organizations, or on a broader scale, in collaboration with the Department, are encouraged to reply to this notice. Working together, it is intended that these partnerships will provide innovative opportunities to promote greater HIV testing.

Dated: May 25, 2004.
Christopher A. Bates,
Acting Director, Office of HIV/AIDS Policy.

[FR Doc. 04-12243 Filed 6-1-04; 8:45 am]

BILLING CODE 4150-28-P